DEPARTMENT OF JUSTICE

Office of Justice Programs

[OJP (NIJ) Docket No. 1600]

Guidelines for Cases Requiring On-Scene Death Investigation

AGENCY: National Institute of Justice, Justice.

ACTION: Notice and request for comments.

SUMMARY: In an effort to obtain comments from interested parties, the U.S. Department of Justice, Office of Justice Programs, National Institute of Justice, Scientific Working Group for Medicolegal Death Investigation will make available to the general public a draft document entitled, “Guidelines for Cases Requiring On-Scene Death Investigation”. The opportunity to provide comments on this document is open to coroner/medical examiner office representatives, law enforcement agencies, organizations, and all other stakeholders and interested parties. Those individuals wishing to obtain and provide comments on the draft document under consideration are directed to the following link: http://swgmdi.org/index.php?option=com_content&view=article&id=85&Itemid=102.

DATES: Comments must be received on or before August 22, 2012.

FOR FURTHER INFORMATION CONTACT: Patricia Kashtan, by telephone at 202-353-1856 [Note: this is not a toll-free telephone number], or by email at Patricia.Kashtan@usdoj.gov.

John Laub,
Director, National Institute of Justice.

[FR Doc. 2012-18623 Filed 7-30-12; 8:45 am]

BILLING CODE 4410-18-P